DEPARTMENT OF ENERGY

Western Area Power Administration

Parker-Davis Project—Post-2008 Resource Pool

AGENCY: Western Area Power Administration, DOE.

ACTION: Notice of Proposed Allocation.

SUMMARY: The Western Area Power Administration (Western), a Federal power marketing agency of the Department of Energy (DOE), announces the Parker-Davis Project (P-DP) Post-2008 Resource Pool Proposed Allocation of Power (Resource Pool Proposed Power Allocation), developed under the requirements of the Energy Planning and Management Program (EPAMP). EPAMP provides for establishing project-specific resource pools and power allocations from these pools to new preference customers.

Western's call for applications was published in the October 1, 2004, Federal Register. Applications received by January 30, 2005, were considered for the Resource Pool Proposed Power Allocation. Western will prepare and publish the Final Allocation of Power in the Federal Register after all public comments have been considered.

DATES: The comment period on the Resource Pool Proposed Power Allocation will begin today and end September 15, 2006. Western must receive all comments by the end of the comment period. Western will hold public information and public comment forums on the Resource Pool Proposed Power Allocation. The public information forum dates and times are:

1. August 29, 2006, 1 p.m. MST, Phoenix, AZ.

2. August 31, 2006, 1 p.m. PDT, Ontario, CA.

The public comment forum dates and times are:

1. September 12, 2006, 1 p.m. MST, Phoenix, AZ.

2. September 14, 2006, 1 p.m. PDT, Ontario, CA.

ADDRESSES: Information regarding the Proposed Power Allocation, including comments, letters, and other supporting documents, is available for public inspection and copying at the Desert Southwest Regional Office, Western Area Power Administration, 615 South 43rd Avenue, Phoenix, AZ 85009. Public comments and related information may be viewed at http://www.wapa.gov/dsw/pwrmkt. The public information and comment forum locations are:

1. Phoenix—Western Area Power Administration, Desert Southwest Regional Office, 615 South 43rd Avenue, Phoenix, AZ.

2. Ontario—Doubletree Hotel Ontario Airport, 222 North Vineyard Ave., Ontario, CA.

As access to Western facilities is controlled, any U.S. citizen wishing to attend any meeting held at Western must present an official form of picture identification, such as a U.S. driver's license, U.S. passport, U.S. Government ID, or U.S. Military ID, at the time of the meeting. Foreign nationals should contact Western at least 45 days in advance of the meeting to obtain the necessary form to be admitted to Western's offices.

FOR FURTHER INFORMATION CONTACT: Mr. Brian Young, Remarketing Program Manager, Desert Southwest Regional Office, Western Area Power Administration, P.O. Box 6457, Phoenix, AZ 85005-6457, (602) 605-2594, e-mail post2008pdp@wapa.gov.

SUPPLEMENTARY INFORMATION: Western published a notice of Final Allocation Procedures in the December 16, 2005 Federal Register (70 FR 74805), to implement Subpart C—Power Marketing Initiative (PMI) of EPAMP's Final Rule, 10 CFR part 905 (60 FR 54151). EPAMP, developed in part to implement Section 114 of the Energy Policy Act of 1992, became effective on November 20, 1995. EPAMP calls for planning and efficient electric energy use by Western's long-term firm power customers and provides a framework for extending Western's firm power resource commitments. One aspect of EPAMP is to establish project-specific power resource pools when existing resource commitments expire and to allocate power from these pools to eligible preference customers. Existing resource commitments for the P-DP expire on September 30, 2008. Western published its decision to apply the EPAMP PMI to the P-DP in the Federal Register on May 5, 2003 (68 FR 23709). This decision created a resource pool of approximately 17 megawatts (MW) of summer season capacity and 13 MW of winter season capacity, based on estimates of current P-DP hydroelectric resource availability, for allocation to eligible preference customers for 20 years beginning October 1, 2008. The resource pool includes 0.869 MW of summer season withdrawable capacity and 0.619 MW of winter season withdrawable capacity. The associated energy will be a maximum of 3,441 kilowatthours per kilowatt (kWh/kW) in the summer season and 1,703 kWh/kW in the winter season, based on current marketing plan criteria.

The Resource Pool Proposed Power Allocation was determined from the applications received during the call for applications (69 FR 58900) under the guidelines of the Final Allocation Procedures, the current P-DP Marketing Plan (49 FR 50582, 52 FR 7014, and 52 FR 28333), and EPAMP. Western seeks comments relevant to the proposed allocations during this comment period.

Proposed Power Allocation

Western received 79 applications for the Post-2008 Resource Pool. Of those, three applicants did not meet the general eligibility requirements. The Final Allocation Criteria provide that firm power would be allocated to qualified applicants in the following order of priority:

1. Preference entities in the P-DP marketing area that do not have a contract with Western for Federal power resources or are not a member of a parent entity that has a contract with Western for Federal power resources.

2. Preference entities in the P-DP marketing area that have a contract with Western for Federal power resources or are a member of a parent entity that has a contract with Western for Federal power resources.

3. Preference entities in adjacent Federal marketing areas that do not have a contract with Western for Federal power resources or are not a member of a parent entity that has a contract with Western for Federal power resources.

Western received one application from a preference entity that has a contract with Western and is located in an adjacent marketing area. As a result, it does not qualify under any of the priority groups. Western did not receive any applications from entities in the third priority of consideration. Western received 41 applications from entities in second priority of consideration and 34 applications from entities that are in the first priority of consideration. In addition, one application identified load for Indian irrigation pumping on Indian lands adjacent to the Colorado River for which priority consideration is required.

The Resource Pool Proposed Power Allocation was made by considering the 75 qualified applicants in light of the following factors: (1) Priority consideration for Indian irrigation pumping on certain Indian lands adjacent to the Colorado River in the lower basin; (2) widespread use of Federal resources; (3) magnitude of direct or indirect benefits from Federal resources; and (4) load. Western proposes to allocate power to 12 applicants in the first priority of consideration and one applicant for irrigation pumping on Indian lands. The proposed allocation amounts are a minimum of 1 MW in accordance with the Final Allocation Procedures.

The proposed allocations are:

BILLING CODE 6450-01-P

Regulatory Procedure Requirements

Regulatory Flexibility Analysis

The Regulatory Flexibility Act of 1980 (5 U.S.C. 601, et seq.) requires Federal agencies to perform a regulatory flexibility analysis if a final rule is likely to have a significant economic impact on a substantial number of small entities and there is a legal requirement to issue a general notice of proposed rulemaking. Western has determined that this action does not require a regulatory flexibility analysis since it is a rulemaking of particular applicability involving rates or services applicable to public property.

Environmental Compliance

Western completed an environmental impact statement on EPAMP, under the National Environmental Policy Act of 1969 (NEPA). The Record of Decision was published in 60 FR 53181, October 12, 1995. Western's NEPA review assured all environmental effects related to these actions have been analyzed.

Determination Under Executive Order 12866

Western has an exemption from centralized regulatory review under Executive Order 12866; accordingly, no clearance of this notice by the Office of Management and Budget is required.

Small Business Regulatory Enforcement Fairness Act

Western has determined this rule is exempt from congressional notification requirements under 5 U.S.C. 801 because the action is a rulemaking of particular applicability relating to rates or services and involves matters of procedure.

Dated: July 6, 2006.
Michael S. Hacskaylo,
Administrator.

[FR Doc. E6-11234 Filed 7-14-06; 8:45 am]

BILLING CODE 6450-01-C